DEPARTMENT OF ENERGY

Federal Energy Regulatory Commission

[Docket No. RP05-349-001]

Questar Pipeline Company; Notice of Tariff Filing

June 3, 2005.

Take notice that on May 31, 2005, Questar Pipeline Company (Questar), tendered for filing as part of its FERC Gas Tariff, First Revised Volume No. 1, Eleventh Revised Sheet No. 67, to be effective June 21, 2005.

On May 20, 2005, Questar filed a tariff filing that reflected various redundant language and grammar cleanup, miscellaneous corrections and clarifications and the addition of minor tariff provisions. However, one of the tariff sheets in that filing contained a pagination error reflecting pagination from tariff sheets that had previously been withdrawn in two separate proceedings under Docket Nos. RP05-272-000 and RP03-250-000. Questar states that the pagination error is being corrected by this amended filing.

Questar states that copies of this filing were served upon Questar's customers, the Public Service Commission of Utah and the Public Service Commission of Wyoming.

Any person desiring to protest this filing must file in accordance with Rule 211 of the Commission's Rules of Practice and Procedure (18 CFR 385.211). Protests to this filing will be considered by the Commission in determining the appropriate action to be taken, but will not serve to make protestants parties to the proceeding. Such protests must be filed in accordance with the provisions of section 154.210 of the Commission's regulations (18 CFR 154.210). Anyone filing a protest must serve a copy of that document on all the parties to the proceeding.

The Commission encourages electronic submission of protests in lieu of paper using the “eFiling” link at http://www.ferc.gov. Persons unable to file electronically should submit an original and 14 copies of the protest to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Linda Mitry,
Deputy Secretary.

[FR Doc. E5-2970 Filed 6-8-05; 8:45 am]

BILLING CODE 6717-01-P